PEACE CORPS

Information Collection Request Submission for OMB Review

AGENCY: Peace Corps.

ACTION: 30-day notice and request for comments.

SUMMARY: The Peace Corps will be submitting the following information collection requests to the Office of Management and Budget (OMB) for Extension without change of a currently approved information collection. In compliance with the Paperwork Reduction Act of 1995 (44 U.S.C. Chapter 35), the Peace Corps invites the general public to comment on the extension, without change, of currently approved information collection, Peace Corps Report of Physical Examination (OMB 0420-0549). This process is conducted in accordance with 5 CFR 1320.10. Peace Corps received no comments during the 60-day notice.

DATES: Comments regarding this collection must be received on or before March 12, 2014.

ADDRESSES: Interested persons are invited to submit comments regarding this proposal. Comments should refer to the proposal by name/or OMB approval number and should be sent via email to: oira_submission@omb.eop.gov or fax to: 202-395-3086. Attention: Desk Officer for Peace Corps.

FOR FURTHER INFORMATION CONTACT: Denora Miller, FOIA/Privacy Act Officer, Peace Corps, 1111 20th Street NW., Washington, DC 20526, (202) 692-1236, or email at pcfr@mailto:ddunevant@peacecorps.govpeacecorps.gov.

SUPPLEMENTARY INFORMATION:

Method: Applicants gain access to the form via a secure online portal. Applicants have to download the form for their health care provider to complete. The completed form can be scanned and uploaded back into the Applicant's secure Peace Corps online portal or they can be faxed or mailed to the Peace Corps Office of Medical Services.

Title: Peace Corps Report of Physical Examination (PC 1790S).

OMB Control Number: 0420-0549.

Type of Request: Extension without change of a currently approved collection.

Affected Public: Individuals/physicians.

Respondents Obligation to Reply: Voluntary.

Burden to the Public:

a. Estimated number of respondents/physicians: 4,000/4,000

b. Estimated average burden per response: 90 minutes/45 minutes

c. Frequency of response: One time

d. Annual reporting burden: 6,000 hours/3,000 hours

e. Estimated annual cost to respondents: Indeterminate

General Description of Collection: The Peace Corps Act requires that Volunteers receive health examinations prior to their service. The information collected is required for consideration for Peace Corps Volunteer service. After completion of the Health History Form and after passing preliminary non-health-related assessments, the Applicant will be “nominated” to a program. This nomination does not guarantee an invitation to serve, but it does hold a place so the Applicant may proceed with the process. After a review by the Peace Corps pre-service medical staff of the Health History Form and any supplemental forms that the Applicant is required to submit following nomination (covered under OMB control number 0420-0510), the Applicant may be medically pre-cleared. An Applicant who is medically pre-cleared and who accepts an invitation to serve as a Peace Corps Volunteer undergoes a final medical clearance. Final medical clearance is on the basis of a complete physical examination, as documented in a Report of Physical Examination (PC-1790S).

The information contained in the Report of Physical Examination will be used to make an individualized determination as to whether an Applicant for Volunteer service will, with reasonable accommodation, be able to perform the essential functions of a Peace Corps Volunteer and complete a tour of service without undue disruption due to health problems and, if so, to establish the level of medical and other support, if any, that may be required to reasonably accommodate the Applicant.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on February 3, 2014.
Denora Miller,
FOIA/Privacy Act Officer, Management.

[FR Doc. 2014-02726 Filed 2-7-14; 8:45 am]

BILLING CODE 6051-01-P